DEPARTMENT OF ENERGY

Federal Energy Regulatory Commission

Notice of Application Accepted for Filing and Soliciting Motions To Intervene and Protests

May 12, 2006.

Take notice that the following hydroelectric application has been filed with the Commission and is available for public inspection.

a. Type of Application: Original Major License under 5 megawatts (MW).

b. Project No.: P-11879-001.

c. Date filed: May 20, 2004.

d. Applicant: Symbiotics, LLC.

e. Name of Project: Chester Diversion Hydroelectric Project.

f. Location: On Henry's Fork of the Snake River, near the Town of Rexburg, in Fremont County, Idaho. The project would not occupy Federal lands.

g. Filed Pursuant to: Federal Power Act, 16 U.S.C. 791(a)-825(r).

h. Applicant Contact: Mr. Brent L. Smith, Northwest Power Services, Inc., PO Box 535, Rigby, ID 83442, (208) 745-0834 or Dr. Vincent A. Lamarra, Ecosystems Research Institute, 975 South State Highway, Logan, UT 84321, (435) 752-2580.

i. FERC Contact: Emily Carter at (202) 502-6512 or Emily.Carter@ferc.gov.

j. Deadline for filing motions to intervene and protests: 60 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted for filing, but is not ready for environmental analysis at this time.

l. The proposed Chester Diversion Hydroelectric Project would utilize the existing BOR Chester Dam on the Henry's Fork of the Snake River. The dam has an overall structural height of 17 feet and a total length of 457 feet, spanning the river. Operation of the project would depend on flows in the Henry's Fork and would be dependent on the irrigation season. It would be operated run-of-river and no storage would occur at the project.

The proposed project would consist of the following facilities: (1) A new three-foot-high inflatable rubber dam bolted to the crest of the existing spillway; (2) a new 50-foot-wide concrete spillway; (3) two new Kaplan-type turbine generator units with a combined generating capacity of 3.3 MW; (4) a new low-profile powerhouse; and (5) appurtenant facilities.

The applicant estimates that the average annual generation would be about 16.8 gigawatt hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE”; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. E6-7707 Filed 5-18-06; 8:45 am]

BILLING CODE 6717-01-P